DEPARTMENT OF AGRICULTURE

Farm Service Agency

[Docket ID: FSA-2025-0037]

Information Collection Request; Food Safety Certification for Specialty Crops (FSCSC) Program

AGENCY: Farm Service Agency, USDA.

ACTION: Notice; request for comments.

SUMMARY: In accordance with the Paperwork Reduction Act requirement, the Farm Service Agency (FSA) is requesting comments from all interested individuals and organizations on an extension with a revision of a currently approved information collection request associated with the Food Safety Certification for Specialty Crops (FSCSC) program.

DATES: We will consider comments that we receive by October 28, 2025.

ADDRESSES: We invite you to submit comments on the information collection request. You may submit comments, identified by Docket ID: FSA-2025-0037, by following this method: federal eRulemaking Portal: Go to http://www.regulations.gov. Follow the online instructions for submitting comments.

FOR FURTHER INFORMATION CONTACT: Jamie Garriott, telephone: (202) 253-9843; email: jamie.garriott@usda.gov. Persons with disabilities who require alternative means for communication should contact the USDA's TARGET Center at (202) 720-2600 (Voice) (voice and text telephone (TTY mode)) or dial 711 for Telecommunications Relay Service (both voice and text telephone users can initiate this call from any telephone).

SUPPLEMENTARY INFORMATION:

Description of Information Collection Request

Title: Food Safety Certification for Specialty Crops (FSCSC) Program.

OMB Control Number: 0560-0311.

Expiration Date: 12/31/2025.

Type of Request: Extension with revision.

Abstract: To apply for the Food Safety Certification for Specialty Crops (FSCSC) program, a producer submits FSA-888-1 (Food Safety Certification for Specialty Crops Program (FSCSC) for Program Years 2024 and 2025). The form is manual. The information submitted by applicants is used by FSA to determine eligibility and issue FSCSC payments to eligible applicants. Information that the producer is required to provide on this form is the applicant's name, address, phone number, email, and all certification information and expenses. The applicant must also certify to being either a small or medium size business.

The producer must sign FSA-888-1 agreeing to the rules and regulations of the FSCSC program and that all information is true and correct.

There is a reduction in the number of respondents and burden hours since the last OMB submission. The estimated number of respondents and burden hours have been updated to reflect a reduction in applicants based on prior year program participation. The burden hours have also been reduced because CCC-860, Socially Disadvantaged, Limited Resource, Beginning and Veteran Farmer or Rancher Certification, is not used for FSCSC for the 2024 and 2025 program years.

For the following estimated total annual burden on respondents, the formula used to calculate the total burden hour is the estimated average time per responses hours multiplied by the estimated total annual responses.

Estimate of Annual Burden: Public reporting burden for the collection of information is estimated to average 1 hour and 15 minutes per response.

Respondents: Producers.

Estimated Number of Respondents: 2,500.

Estimated Number of Responses per Respondent: 1.4.

Estimated Total Annual Responses: 3,500.

Estimated Average Time per Response: 1 hour 3.6 minutes (1.06 hours).

Estimated Total Annual Burden Hours: 2,650 hours.

We are requesting comments on all aspects of this information collection to help us:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

William Beam,
Administrator, Farm Service Agency.

[FR Doc. 2025-16647 Filed 8-28-25; 8:45 am]

BILLING CODE 3411-E2-P